DEPARTMENT OF THE INTERIOR

Bureau of Land Management

[SDM 104505/WYW 181986]

Notice of Application for Withdrawal and Notification of Public Meetings; South Dakota and Wyoming

AGENCY: Bureau of Land Management, Interior.

ACTION: Notice.

SUMMARY: The United States Department of Agriculture, Forest Service (USFS) has filed an application with the Bureau of Land Management (BLM) requesting the Secretary of the Interior to withdraw approximately 17,486.90 acres of National Forest System lands from the mining laws to protect four Research Natural Areas and seven Botanical Areas within the Black Hills National Forest in South Dakota and Wyoming. This notice temporarily segregates the lands for up to 2 years from location and entry under the United States mining laws while the application is being processed. This notice also gives an opportunity to comment on the proposed withdrawal application, and announces dates, time and location of two public meetings.

DATES: The USFS must receive comments on or before December 23, 2015. The USFS will hold public meetings in connection with the proposed withdrawal on October 27, 2015 and October 28, 2015.

ADDRESSES: Comments should be sent to the Forest Supervisor, Black Hills National Forest, 1019 North 5th Street, Custer, South Dakota 57730 or the BLM Montana State Director, 5001 Southgate Drive, Billings, Montana 59101.

FOR FURTHER INFORMATION CONTACT: Valerie Hunt, USFS, Rocky Mountain Region, 303-275-5071, vbhunt@fs.fed.us, Tamara Lorenz, BLM Montana State Office, 406-896-5053, tlorenz@mt.blm.gov, or Marilyn Roth, BLM Wyoming State Office, 307-775-6189.

Persons who use a telecommunications device for the deaf (TDD) may call the Federal Information Relay Service (FIRS) at 1-800-877-8339 to contact either of the above individuals. The FIRS is available 24 hours a day, 7 days a week, to leave a message or question with either of the above individuals. You will receive a reply during normal business hours.

SUPPLEMENTARY INFORMATION: The USFS has filed an application with the BLM, pursuant to Section 204 of the Federal Land Policy and Management Act of 1976, 43 U.S.C. 1714 requesting that the Secretary of the Interior withdraw, for a 20-year period, subject to valid existing rights, the National Forest System lands within the Black Hills National Forest described below, from location and entry under the United States mining laws:

South Dakota

Black Hills National Forest

Black Hills Meridian

Bear and Beaver Gulches Botanical Area

T. 5 N., R. 1 E.,

Sec. 4, lots 4 and 5, SW¼NW¼, N½SW¼, SW¼SW¼, and SW¼SE¼;

Sec. 5, lots 1 thru 4, S½NE¼, S½NW¼, E½SE¼, and SW¼SE¼;

Sec. 6, lots 1, 3 thru 9, and lots 12 thru 17;

Sec. 8, NE¼;

Sec. 9, lots 1 thru 6, lot 8, and W½NE¼;

Sec. 16, lot 2.

T. 6 N., R. 1 E.,

Sec. 17, SW¼NE¼, NE¼SW¼, and W½SW¼;

Sec. 18, lot 17;

Sec. 19, lots 1, 5, 6, and 11, and E½;

Sec. 20, NW¼NE¼, S½NE¼, NW¼, and S½;

Sec. 21, SW¼SW¼;

Sec. 29, E½, E½NW¼, NW¼NW¼, NW¼SW¼, and SE¼SW¼;

Sec. 30, lots 1 thru 6, lots 7 and 12, and E½;

Sec. 31, lots 1 thru 7, lots 10, 11, 12, and 14, NE¼ and NE¼SE¼;

Sec. 32, lots 1 thru 4, NE¼, E½NW¼, N½SW¼, and N½SE¼;

Sec. 33, lots 1 and 2, and N½SW¼.

The areas described aggregate 5,342.08 acres in Lawrence County.

Black Fox Botanical Area

T. 2 N., R. 2 E.,

Sec. 11, SE¼NE¼, SE¼SW¼, E½SE¼, and SW¼SE¼;

Sec. 12 lots 1 and 2, S½NE¼, S½NW¼, SW¼, and W½SE¼;

Sec. 13, E½NE¼, W½NW¼, W½SW¼, and NE¼SE¼;

Sec. 14, E½SE¼;

Sec. 24, NW¼NW¼.

T. 2 N., R. 3 E.,

Sec. 7, lots 4 thru 7;

Sec. 17, lots 2, 6, and 7;

Sec. 18, lots 1, 2, 5, and 6, E½NW¼, E½SW¼, and SE¼.

The areas described aggregate 1,618.38 acres in Pennington (909.42 acres) and Lawrence (708.96 acres) Counties.

Canyon City Research Natural Area

T. 1 N., R. 4 E.,

Sec. 1, lots 1, 3, and 4, S½NE¼, S½NW¼, and NW¼SE¼;

Sec. 2, lots 1 thru 4, S½NE¼, SE¼NW¼, NE¼SW¼, and N½SE¼;

Sec. 3, lots 5 and 6.

T. 2 N., R. 4 E.,

Sec. 34, lot 9, and S½SE¼SE¼;

Sec. 36, SE¼SW¼.

The areas described aggregate 914.26 acres in Pennington County.

Englewood Springs Botanical Area

T. 4 N., R. 3 E.,

Sec. 29, lots 2, 6, and 7, SE¼NE¼, E½SW¼, and SE¼;

Sec. 32, NE¼NW¼.

The area described contains 409.05 acres in Lawrence County.

Fanny Boles Gulch Research Natural Area

T. 3 S., R. 1 E.,

Sec. 6, lots 5, 6, and 7, SE¼NW¼, E½SW¼, and W½SE¼;

Sec. 7, lots 1 thru 4, W½NE¼, W½NW¼, E½SW¼, and S½SE¼.

The area described contains 853.41 acres in Custer County.

Higgins Gulch Botanical Area

T. 6 N., R. 1 E.,

Sec. 23, SE¼SE¼;

Sec. 24, SW¼NE¼, S½NW¼, SW¼, and W½SE¼;

Sec. 25, NW¼NE¼, and W½;

Sec. 26, E½, E½NW¼, SW¼NW¼, E½SW¼, and NW¼SW¼;

Sec. 27, NE¼SW¼;

Sec. 35, N½NE¼, and NE¼NW¼;

Sec 36, W½NE¼, and E½NW¼.

The area described contains 1,640.00 acres in Lawrence County.

McIntosh Fen Botanical Area

T. 1 N., R. 2 E.,

Sec. 14, SE¼SW¼;

Sec. 15, SW¼SE¼;

Sec. 22, lots 1, 2, 6, 7, and 8;

Sec. 26, NW¼NE¼ except for that portion within Homestead Entry Survey 235 subject to Patent 529631.

The area described contains 239.60 acres in Pennington County.

North Fork of Castle Creek Area

T. 1 N., R. 2 E.,

Sec. 2, lots 3 and 4;

T. 2 N., R. 2 E.,

Sec. 22, SW¼SE¼;

Sec. 26, W½;

Sec. 27, E½ and E½NW¼;

Sec. 34, NE¼, E½NW¼, and E½SE¼;

Sec. 35, S½NE¼, W½, NE¼SE¼, and W½SE¼.

The area described aggregates 1,681.72 acres in Pennington County.

The areas described in South Dakota aggregate approximately 12,698.50 acres in Custer, Lawrence, and Pennington Counties.

Wyoming

Black Hills National Forest

Sixth Principal Meridian

Dugout Gulch Botanical Area

T. 52 N., R 60 W.,

Sec. 19, lots 3 and 4, E½SW¼, and W½SE¼;

Sec. 30, lots 1 thru 4, W½NE¼, E½NW¼, E½SW¼, and SE¼;

Sec. 31, lot 1, NE¼, NE¼NW¼, and N½SE¼.

T. 52 N., R. 61 W.,

Sec. 24, SE¼SE¼;

Sec. 25, lots 1 thru 4, inclusive, NW¼NE¼, and E½SE ¼;

Sec. 36, E½NE¼.

The area described aggregates 1,515.33 acres in Crook County.

Hay Creek Research Natural Area

T. 54 N., R. 62 W.,

Sec. 7, S½NE¼, SE¼NW¼, E½SW¼, and SE¼;

Sec. 8, NW¼SW¼, and S½SW¼;

Sec. 17, NW¼, and N½SW¼;

Sec. 18, NE¼, NE¼NW¼, NE¼SW¼, NE¼SE¼, and W½SE ¼.

The area described contains 1,080.00 acres in Crook County.

Upper Sand Creek Botanical Area

T. 51 N., R. 60 W.,

Sec. 7, S½SE¼;

Sec. 17, lots 1 and 2, NW¼NW¼, SE¼NW¼, E½SW¼, SW¼SW¼, and W½SE¼;

Sec. 18, lots 5 thru 8, inclusive, W½NE¼, SE¼NW¼, W½SE¼, and SE¼SE¼;

Sec. 19, E½;

Sec. 20, lot 1, W½NE¼, SE¼NW¼, W½SE¼, SE¼SE¼;

Sec. 21, lots 8 thru 11, lots 14 and 15, and NW¼SE¼;

Sec. 29, lots 2 and 3, N½NE¼ and SW¼NW¼;

Sec. 30, NE¼.

The area described contains 2,233.07 acres in Crook County.

The total areas described in Wyoming aggregate 4,828.40 acres in Crook County.

The purpose of the withdrawal is to protect the Research Natural Areas and Botanical Areas and allow the USFS to explore administrative alternatives in managing the lands.

The use of a right-of-way, interagency agreement, or cooperative agreement would not provide adequate protection for these areas due to the broad scope and nondiscretionary nature of the general mining laws.

No alternative sites are feasible due to the resource significance of the areas. No water will be needed to fulfill the purpose of the requested withdrawal.

Records relating to the application may be examined by contacting the USFS, Rocky Mountain Region at the above address and phone number.

For a period until December 23, 2015, all persons who wish to submit comments, suggestions, or objections in connection with the withdrawal application may present their views in writing to the Forest Supervisor, Black Hills National Forest at the address indicated above.

Comments, including names and street addresses of respondents, will be available for public review at the Forest Supervisor's Office, Black Hills National Forest, 1019 North 5th Street, Custer, South Dakota 57730, during regular business hours. Individual respondents may request confidentiality. Before including your address, phone number, email address, or other personal identifying information in your comment, be advised that your entire comment—including your personal identifying information—may be made publicly available at any time. While you can ask us in your comment to withhold from public review your personal identifying information, we cannot guarantee that we will be able to do so.

Notice is hereby given that public meetings in connection with the proposed withdrawal will be held at the Mystic Ranger District, 8221 South Hwy 16, Rapid City, South Dakota 67702 on October 27, 2015 at 6 p.m. and at the Sundance Community Center, Basement of the Crook County Courthouse, 309 Cleveland St., Sundance, Wyoming 82729 on October 28, 2015 at 6 p.m. The USFS will publish a notice of the time and place in a least one newspaper of general circulation no less than 30 days before the scheduled dates of the meetings.

For a period until September 25, 2017, subject to valid existing rights, the lands will be segregated from location and entry under the United States mining laws, unless the application is denied or canceled or the withdrawal is approved prior to that date. The lands will remain open to other uses within the statutory authority pertinent to National Forest lands and subject to discretionary approval.

The application will be processed in accordance with the regulations set forth in 43 CFR 2310.

Peter A. McFadden,
Chief, Branch of Realty and Renewable Energy.

[FR Doc. 2015-24312 Filed 9-23-15; 8:45 am]

BILLING CODE 3411-15-P